DEPARTMENT OF TRANSPORTATION

Office of the Secretary

[Docket No. OST-2002-11831]

Establishment of the DOT Electronic Transmission and Storage of Drug Testing Information Advisory Committee

AGENCY: Office of the Secretary, Department of Transportation.

ACTION: Notice.

SUMMARY: The Secretary of Transportation is establishing the Department of Transportation (DOT) Electronic Transmission and Storage of Drug Testing Information Advisory Committee. The purpose of the committee is to recommend to the Department the type and level of electronic security that should be used for the transmission and storage of drug testing information generated as part of the DOT drug and alcohol testing program regulated by 40 CFR part 40 (65 FR 79462). Additionally, the Committee may examine and provide advice to the DOT related to the format and methodology used in transmitting this type of information as well as the levels and procedures to use in implementing electronic signature technology within the context of the drug and alcohol program.

FOR FURTHER INFORMATION CONTACT: Don Shatinsky, Office of Drug and Alcohol Policy and Compliance (ODAPC), Office of the Secretary, Department of Transportation, (202) 366-3784, fax (202) 366-3897 or Roberta Fede, Committee Management Officer, Executive Secretariat, Department of Transportation, (202) 366-9764.

SUPPLEMENTARY INFORMATION: In accordance with the requirements of the Federal Advisory Committee Act (FACA), 5 U.S.C. Appendix 2, notice is hereby given that on December 11, 2001, the Secretary of Transportation approved establishment of the Electronic Transmission and Storage of Drug Testing Information Advisory Committee. After consultation with the General Services Administration as required by section 9(a)(2) of FACA and 41 CFR 102-3.65, the Secretary certifies that he has determined that the establishment of the Committee is in the public interest in connection with the performance of duties imposed on the DOT by law and specifically by the Omnibus Transportation Employee Testing Act of 1991.

The committee will be composed of approximately 20 members appointed by the Secretary from interested parties within the public. The Committee's members will be chosen to ensure a fairly balanced membership to bring into account a diversity of viewpoints, expertise, and backgrounds. Representation will include the technical and computer industry, drug testing laboratories, medical review officers (MRO), labor, trade and labor associations, and employers. The Committee will provide advice and recommendations to the Department related to the level and type of electronic security that the Department should require in the use of electronic transmission and storage of drug testing information. Additionally, the Committee may look at the specific formats that may be required to provide consistency in the reporting process, the methodology used, e.g., e-mail versus web based, and the application of electronic signatures in the overall process of reporting this sensitive information. Currently, there are approximately 8.3 million transportation workers in safety-sensitive positions requiring drug testing. All results of drug tests, including negative, positive, adulterated, substituted, and invalid are reported by laboratories directly to physicians (i.e., MROs), who subsequently send final test results to employers. In the majority of cases, laboratory results and MRO verification results are sent by U.S. mail or courier, generating substantial paper work requirements.

To alleviate some of the paper work burden, when 49 CFR part 40 was revised on December 19, 2000, the use of faxed and electronic reporting of some of the drug testing results was authorized, provided that the laboratory and MRO ensured that the information is transmitted in such a manner as to prevent unauthorized access or release while it is transmitted or stored. However, no particular standards or guidelines were provided to ensure that laboratories and MROs used adequate, but secure, methods to transmit and store this sensitive information. The Committee will examine the current state of the art for electronic security and identify those methods which will adequately ensure security, but at the same time provide reasonable cost in its implementation.

Copies of the Committee's charter were filed with the appropriate committees of the Congress and with the Library of Congress in accordance with section 9(c) of the FACA, 5 U.S.C. Appendix 2. In accordance with requirements of the FACA, the DOT will keep records of all Committee meetings and will make them available to the public. Based on the charter of the Committee, it is envisioned that the Committee will meet approximately three times within the next year. Meeting times and places will be published in the Federal Register.

Dated: March 12, 2002.
Kenneth C. Edgell,
Acting Director, Office of Drug and Alcohol Policy and Compliance, Department of Transportation.

[FR Doc. 02-6357 Filed 3-15-02; 8:45 am]

BILLING CODE 4910-62-P